DEPARTMENT OF ENERGY

Federal Energy Regulatory Commission

[Docket No. CP21-94-000]

Transcontinental Gas Pipe Line Company, LLC; Notice of Availability of the Draft Environmental Impact Statement for the Proposed Regional Energy Access Expansion

The staff of the Federal Energy Regulatory Commission (FERC or Commission) has prepared a draft environmental impact statement (EIS) for the Regional Energy Access Expansion (Project), proposed by Transcontinental Gas Pipe Line Company, LLC (Transco) in the above-referenced docket. Transco requests authorization to construct and operate approximately 36.1 miles of pipeline loop ¹ and one new compressor station, abandon and replace certain existing compression facilities, and modify existing compressor stations and facilities in Pennsylvania and New Jersey to provide about 829 million standard cubic feet of natural gas per day to multiple delivery points along Transco's existing system in Pennsylvania, New Jersey, and Maryland, providing customers with enhanced access to Marcellus and Utica Shale natural gas supplies.

¹ A pipeline loop is a segment of pipe constructed parallel to an existing pipeline to increase capacity.

The draft EIS assesses the potential environmental effects of the construction and operation of the Project in accordance with the requirements of the National Environmental Policy Act (NEPA). The FERC staff concludes that approval of the proposed Project, with the mitigation measures recommended in the EIS, would result in some adverse environmental impacts; however, with the exception of climate change impacts, those impacts would not be significant. The Project's annual operation and downstream emissions of 16.62 million metric tons of carbon dioxide equivalent would exceed the Commission's presumptive significance threshold based on 100 percent utilization.

The U.S. Environmental Protection Agency and U.S. Army Corps of Engineers participated as cooperating agencies in the preparation of the EIS. Cooperating agencies have jurisdiction by law or special expertise with respect to resources potentially affected by the proposal and participate in the NEPA analysis. The EIS is intended to fulfill the cooperating federal agencies' NEPA obligations, as applicable, and to support subsequent conclusions and decisions made by the cooperating agencies. Although cooperating agencies provide input to the conclusions and recommendations presented in the draft EIS, the agencies may present their own conclusions and recommendations in any applicable Records of Decision for the Project.

The draft EIS addresses the potential environmental effects of the construction and operation of the following Project facilities:

• Installation of 22.3 miles of 30-inch-diameter pipeline loop in Luzerne County, Pennsylvania (Regional Energy Lateral);

• installation of 13.8 miles of 42-inch-diameter pipeline loop in Monroe County, Pennsylvania (Effort Loop);

• installation of the new Compressor Station 201 (9,000 nominal horsepower [hp] at International Organization of Standardization [ISO] conditions) in Gloucester County, New Jersey);

• installation of two gas turbine driven compressor units (31,800 nominal hp at ISO conditions) at existing Compressor Station 505 in Somerset County, New Jersey to accommodate the abandonment and replacement of approximately 16,000 hp from eight existing internal combustion engine-driven compressor units and increase the certificated station compression by 15,800 hp;

• installation of a gas turbine compressor unit (63,742 nominal hp at ISO conditions) and modifications to three existing compressors at existing Compressor Station 515 in Luzerne County, Pennsylvania to accommodate the abandonment and replacement of approximately 17,000 hp from five existing gas-fired reciprocating engine driven compressors and increase the certificated station compression by 46,742 hp;

• uprate and rewheel two existing electric motor-driven compressor units at existing Compressor Station 195 in York County, Pennsylvania to increase the certificated station compression by 5,000 hp and accommodate the abandonment of two existing gas-fired reciprocating engine driven compressors, which total approximately 8,000 hp;

• modifications at existing compressor stations, meter stations, interconnects, and ancillary facilities in Pennsylvania, New Jersey, and Maryland; and

• installation of ancillary facilities such as mainline valves, communication facilities, and pig launchers ² and receivers.

² A “pig” is a tool that the pipeline company inserts into and pushes through the pipeline for cleaning the pipeline, conducting internal inspections, or other purposes.

The Commission mailed a copy of the Notice of Availability of the draft EIS to federal, state, and local government representatives and agencies; elected officials; environmental and public interest groups; Native American tribes; potentially affected landowners and other interested individuals and groups; and newspapers and libraries in the Project area. The draft EIS is only available in electronic format. It may be viewed and downloaded from the FERC's website (www.ferc.gov), on the natural gas environmental documents page (https://www.ferc.gov/industries-data/natural-gas/environment/environmental-documents). In addition, the draft EIS may be accessed by using the eLibrary link on the FERC's website. Click on the eLibrary link (https://elibrary.ferc.gov/eLibrary/search) select “General Search” and enter the docket number in the “Docket Number” field, excluding the last three digits (i.e., CP21-94). Be sure you have selected an appropriate date range. For assistance, please contact FERC Online Support at FercOnlineSupport@ferc.gov or toll free at (866) 208-3676, or for TTY, contact (202) 502-8659.

The draft EIS is not a decision document. It presents Commission staff's independent analysis of the environmental issues for the Commission to consider when addressing the merits of all issues in this proceeding. Any person wishing to comment on the draft EIS may do so. Your comments should focus on the draft EIS' disclosure and discussion of potential environmental effects, reasonable alternatives, and measures to avoid or lessen environmental impacts. To ensure consideration of your comments on the proposal in the final EIS, it is important that the Commission receive your comments on or before 5:00 p.m. Eastern Time on April 25, 2022.

For your convenience, there are four methods you can use to submit your comments to the Commission. The Commission will provide equal consideration to all comments received, whether filed in written form or provided orally. The Commission encourages electronic filing of comments and has staff available to assist you at (866) 208-3676 or FercOnlineSupport@ferc.gov. Please carefully follow these instructions so that your comments are properly recorded.

(1) You can file your comments electronically using the eComment feature on the Commission's website (www.ferc.gov) under the link to FERC Online. This is an easy method for submitting brief, text-only comments on a project;

(2) You can file your comments electronically by using the eFiling feature on the Commission's website (www.ferc.gov) under the link to FERC Online. With eFiling, you can provide comments in a variety of formats by attaching them as a file with your submission. New eFiling users must first create an account by clicking on “eRegister.” If you are filing a comment on a particular project, please select “Comment on a Filing” as the filing type; or

(3) You can file a paper copy of your comments by mailing them to the Commission. Be sure to reference the project docket number (CP21-94-000) on your letter. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

(4) In lieu of sending written or electronic comments, the Commission invites you to attend one of the virtual public comment sessions its staff will conduct by telephone to receive comments on the draft EIS, scheduled as follows:

Date and time
Monday, March 28, 2022, 6:00-8:00 p.m. (EST), Call in number: 800-779-8625, Participant Passcode: 3472916.
Tuesday, March 29, 2022, 12:00-2:00 p.m. (EST), Call in number: 888-848-6716, Participant Passcode: 4258437.
Wednesday, March 30, 2022, 6:00-8:00 p.m. (EST), Call in number: 800-779-8625, Participant Passcode: 3472916.

The primary goal of these comment sessions is to have you identify the specific environmental issues and concerns with the draft EIS. There will not be a formal presentation by Commission staff when the session opens. Individual oral comments will be taken on a one-on-one basis with a court reporter present on the line. This format is designed to receive the maximum amount of oral comments, in a convenient way during the timeframe allotted, and is in response to the ongoing COVID-19 pandemic. Prospective commentors are encouraged to review the draft EIS to familiarize themselves with the Project prior to participating in the meeting.

Each comment session is scheduled from either 6:00 to 8:00 p.m. or else 12:00 p.m. (noon) to 2:00 p.m., Eastern Standard Time. You may call at any time after the listed start times, at which point you will be placed on mute and hold. Calls will be answered in the order they are received. Once answered, you will have the opportunity to provide your comment directly to a court reporter with FERC staff or representative present on the line. A time limit of 3 minutes will be implemented for each commentor.

Transcripts of all comments received during the comment sessions will be publicly available on FERC's eLibrary system (see page 2 of this notice for instructions on using eLibrary).

It is important to note that the Commission provides equal consideration to all comments received, whether filed in written form or provided at a virtual comment session.

Any person seeking to become a party to the proceeding must file a motion to intervene pursuant to Rule 214 of the Commission's Rules of Practice and Procedures (18 CFR part 385.214). Motions to intervene are more fully described at https://www.ferc.gov/how-intervene. Only intervenors have the right to seek rehearing or judicial review of the Commission's decision. The Commission grants affected landowners and others with environmental concerns intervenor status upon showing good cause by stating that they have a clear and direct interest in this proceeding which no other party can adequately represent. Simply filing environmental comments will not give you intervenor status, but you do not need intervenor status to have your comments considered.

Questions?

Additional information about the Project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to https://www.ferc.gov/ferc-online/overview to register for eSubscription.

Dated: March 2, 2022.
Kimberly D. Bose,
Secretary.

[FR Doc. 2022-04871 Filed 3-7-22; 8:45 am]

BILLING CODE 6717-01-P